DEPARTMENT OF HOMELAND SECURITY

Coast Guard

33 CFR Part 117

[Docket No. USCG-2012-0478]

Drawbridge Operation Regulations; Gulf Intracoastal Waterway, Sarasota, FL

AGENCY: Coast Guard, DHS.

ACTION: Notice of temporary deviations from regulations.

SUMMARY: The Commander, Seventh Coast Guard District, has issued temporary deviations from the regulations governing the operation of the following four bridges in Sarasota, Florida: The Venice Airport Bridge, mile 54.9, across the Gulf Intracoastal Waterway; the North Manasota Bridge, mile 49.9, across the Gulf Intracoastal Waterway; the Tom Adams Bridge, mile 43.5, across the Gulf Intracoastal Waterway; and the Venice Bridge, mile 56.6, across the Gulf Intracoastal Waterway. The deviations are necessary to allow for participants in the Rev3 Triathlon to traverse the aforementioned bridges without delay. These deviations will result in the bridges remaining in the closed position during the Rev3 Triathlon.

DATES: These deviations are effective from 8 a.m. through 1:30 p.m. on October 28, 2012.

ADDRESSES: Documents mentioned in this preamble as being available in the docket are part of docket USCG-2012-0478 and are available online by going to http://www.regulations.gov, inserting USCG-2012-0478 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Michael Lieberum, Seventh District Bridge Branch, Coast Guard; telephone (305) 415-6744, email Michael.B.Lieberum@uscg.mil. If you have questions on viewing the docket, call Renee V. Wright, Program Manager, Docket Operations, telephone (202) 366-9826.

SUPPLEMENTARY INFORMATION: The Rev3 Triathlon Director has requested temporary modifications to the operating schedules of the Venice Airport Bridge, the North Manasota Bridge, the Tom Adams Bridge, and the Venice Avenue Bridge in Sarasota, Florida. These deviations will result in the aforementioned bridges remaining in the closed position during the Rev3 Triathlon on October 28, 2012. The Rev3 Triathlon route passes over these four bridges. Any bridge opening during the Rev3 Triathlon would disrupt the race. The temporary deviations will be in effect from 8 a.m. through 1:30 p.m. on October 28, 2012.

The details and regular operating schedule for each bridge are set forth below.

1. Venice Airport Bridge, mile 54.9. The vertical clearance of the Venice Airport Bridge, across the Gulf Intracoastal Waterway, is 19 feet, above mean high water. The normal operating schedule for the Venice Airport Bridge is set forth in 33 CFR 117.5. 33 CFR 117.5 requires the bridge to open promptly and fully for the passage of vessels when a request or signal to open is given in accordance with this subpart. As a result of this temporary deviation, the Venice Airport Bridge will remain closed to navigation from 8 a.m. to 9:45 a.m. on October 28, 2012. Tugs and tugs with tows are not exempt from this deviation.

2. North Manasota Bridge, mile 49.9. The vertical clearance of the North Manasota Bridge, across the Gulf Intracoastal Waterway, is 26 feet, above mean high water. The normal operating schedule for the North Manasota Bridge is set forth in 33 CFR 117.5. 33 CFR 117.5 requires the bridge to open promptly and fully for the passage of vessels when a request or signal to open is given in accordance with this subpart. As a result of this temporary deviation, the North Manasota Bridge will remain closed to navigation from 8:30 a.m. to 10:50 a.m. on October 28, 2012. Tugs and tugs with tows are not exempt from this deviation.

3. Tom Adams Bridge, mile 43.5. The vertical clearance of the Tom Adams Bridge, across the Gulf Intracoastal Waterway, is 26 feet, above mean high water. The normal operating schedule for the Tom Adams Bridge is set forth in 33 CFR 117.5. 33 CFR 117.5 requires the bridge to open promptly and fully for the passage of vessels when a request or signal to open is given in accordance with this subpart. As a result of this temporary deviation, the Tom Adams Bridge will remain closed to navigation from 8:50 a.m. to 10:50 a.m. on October 28, 2012. Tugs and tugs with tows are not exempt from this deviation.

4. Venice Avenue Bridge, mile 56.6. The vertical clearance of the Venice Avenue Bridge, across the Gulf Intracoastal Waterway, is 30 feet, above mean high water. The normal operating schedule for the Venice Avenue Bridge is set forth in 33 CFR 117.287 (a-2). 33 CFR 117.287 (a-2) requires the bridge to open on signal, except that from 7 a.m. to 4:30 p.m., Monday through Friday except Federal holidays, the draw need open only at 10 minutes after the hour, 30 minutes after the hour and 50 minutes after the hour and except between 4:35 p.m. and 5:35 p.m. when the draw need not open. As a result of this temporary deviation, the Venice Avenue Bridge will remain closed to navigation from 10:20 a.m. to 1:30 p.m. on October 28, 2012. Tugs and tugs with tows are not exempt from this deviation.

In accordance with 33 CFR 117.35(e), the drawbridges must return to their regular operating schedules immediately at the end of the designated time period. These deviations from the operating regulations are authorized under 33 CFR 117.35.

Dated: July 16, 2012.
B.L. Dragon,
Bridge Program Director, Seventh Coast Guard District.

[FR Doc. 2012-18457 Filed 7-27-12; 8:45 am]

BILLING CODE 9110-04-P